DEPARTMENT OF LABOR

Wage and Hour Division

Agency Information Collection Activities; Comment Request; Information Collections: Requirements of a Bona Fide Thrift Savings Plan and Requirements of a Bona Fide Profit-Sharing Plan or Trust

AGENCY: Wage and Hour Division, Department of Labor.

ACTION: Notice.

SUMMARY: The Department of Labor (Department) is soliciting comments concerning a proposed extension of the information collection request (ICR) titled “Requirements of a Bona Fide Thrift Savings Plan and Requirements of a Bona Fide Profit-Sharing Plan or Trust.” This comment request is part of continuing Departmental efforts to reduce paperwork and respondent burden in accordance with the Paperwork Reduction Act of 1995 (PRA). This program helps to ensure that requested data can be provided in the desired format, reporting burden (time and financial resources) is minimized, collection instruments are clearly understood, and the impact of collection requirements on respondents can be properly assessed. A copy of the proposed information request can be obtained by contacting the office listed below in the FOR FURTHER INFORMATION CONTACT section of this Notice.

DATES: Written comments must be submitted to the office listed in the ADDRESSES section below on or before February 20, 2024.

ADDRESSES: You may submit comments identified by Control Number 1235-0013, by either one of the following methods: Email: WHDPRAComments@dol.gov; Mail, Hand Delivery, Courier: Division of Regulations, Legislation, and Interpretation, Wage and Hour, U.S. Department of Labor, Room S-3502, 200 Constitution Avenue NW, Washington, DC 20210. Instructions: Please submit one copy of your comments by only one method. All submissions received must include the agency name and Control Number identified above for this information collection. Commenters are strongly encouraged to transmit their comments electronically via email or to submit them by mail early. Comments, including any personal information provided, become a matter of public record. They will also be summarized and/or included in the request for Office of Management and Budget (OMB) approval of the information collection request.

FOR FURTHER INFORMATION CONTACT: Robert Waterman, Division of Regulations, Legislation, and Interpretation, Wage and Hour Division, U.S. Department of Labor, Room S-3502, 200 Constitution Avenue NW, Washington, DC 20210; telephone: (202) 693-0406 (this is not a toll-free number). Alternative formats are available upon request by calling 1-866-487-9243. If you are deaf, hard of hearing, or have a speech disability, please dial 7-1-1 to access telecommunications relay services.

SUPPLEMENTARY INFORMATION:

I. Background

This extension is for the Requirements of a Bona Fide Thrift or Savings Plan and Requirements of a Bona Fide Profit-Sharing Plan or Trust information collection. The information collection requirements apply to employers claiming the overtime exemption available under Fair Labor Standards Act section 7(e)(3)(b), 29 U.S.C. 207(e)(3)(b). Specifically, in calculating an employee's regular rate of pay, an employer need not include contributions made to a bona fide thrift or savings plan or a bona fide profit-sharing plan or trust—as defined in regulations 29 CFR parts 547 and 549. An employer is required to communicate, or to make available to its employees, the terms of the bona fide thrift, savings, or profit-sharing plan or trust and to retain certain records. Fair Labor Standards Act section 11(c) authorizes this information collection. See 29 U.S.C. 211(c).

Interested parties are encouraged to send comments to the Department at the address shown in the ADDRESSES section within 60 days of publication of this notice in the Federal Register. To help ensure appropriate consideration, comments should reference OMB Control Number 1235-0013.

II. Review Focus

The Department of Labor is particularly interested in comments which:

• Evaluate whether the proposed collection of information is necessary for the proper performance of the functions of the agency, including whether the information will have practical utility;

• Enhance the quality, utility, and clarity of the information to be collected;

• Evaluate the accuracy of the agency's estimate of the burden of the proposed collection of information, including the validity of the methodology and assumptions used;

• Minimize the burden of the collection of information on those who are to respond, including through the use of appropriate automated, electronic, mechanical, or other technological collection techniques or other forms of information technology, e.g., permitting electronic submissions of responses.

III. Current Actions

The Department of Labor seeks an approval for the extension of this information collection to ensure effective administration of the FLSA as it relates to the Requirements of a Bona Fide Thrift Savings Plan and Requirements of a Bona Fide Profit-Sharing Plan or Trust.

Type of Review: Extension.

Agency: Wage and Hour Division.

Title: Requirements of a Bona Fide Thrift Savings Plan and Requirements of a Bona Fide Profit-Sharing Plan or Trust.

OMB Control Number: 1235-0013.

Affected Public: Business or other for-profit, non-profits.

Total Respondents: 3,254,524.

Total Annual Responses: 4,393,607.

Estimated Total Burden Hours: 2,441.

Estimated Time per Response: 2 seconds.

Frequency: On occasion.

Total Burden Costs: $134,914.

Total Burden Cost (capital/startup): $0.

Total Burden Cost (operation/maintenance): $0.

Dated: December 15, 2023.
Amy Hunter,
Director, Division of Regulations, Legislation, and Interpretation.

[FR Doc. 2023-27965 Filed 12-19-23; 8:45 am]

BILLING CODE 4510-27-P